DEPARTMENT OF COMMERCE

International Trade Administration

[A-351-857]

Raw Honey From Brazil: Final Determination of Sales at Less Than Fair Value

AGENCY: Enforcement and Compliance, International Trade Administration, Department of Commerce.

SUMMARY: The Department of Commerce (Commerce) determines that imports of raw honey from Brazil are being, or are likely to be, sold in the United States at less than fair value (LTFV) for the period of investigation April 1, 2020, through March 31, 2021.

DATES: Applicable April 14, 2022.

FOR FURTHER INFORMATION CONTACT: Genevieve Coen, AD/CVD Operations, Office V, Enforcement and Compliance, International Trade Administration, U.S. Department of Commerce, 1401 Constitution Avenue NW, Washington, DC 20230; telephone: (202) 482-3251.

SUPPLEMENTARY INFORMATION:

Background

On November 23, 2021, Commerce published its preliminary determination in the LTFV investigation of raw honey from Brazil, in which we also postponed the final determination until April 7, 2022.¹ For a complete description of the events that followed the Preliminary Determination, see the Issues and Decision Memorandum.²

¹ See Raw Honey from Brazil: Preliminary Affirmative Determination of Sales at Less Than Fair Value, Postponement of Final Determination, and Extension of Provisional Measures, 86 FR 66533 (November 23, 2021) (Preliminary Determination), and accompanying Preliminary Decision Memorandum.

² See Memorandum, “Issues and Decision Memorandum for the Final Affirmative Determination in the Less-Than-Fair-Value Investigation of Raw Honey from Brazil,” dated concurrently with, and hereby adopted by, this notice (Issues and Decision Memorandum).

Scope of the Investigation

The product covered by this investigation is raw honey from Brazil. For a complete description of the scope of this investigation, see Appendix I.

Scope Comments

No interested party commented on the scope of the investigation as it appeared in the Preliminary Determination. Therefore, no changes were made to the scope of the investigation.

Analysis of Comments Received

All issues raised in the case and rebuttal briefs that were submitted by parties in this investigation are addressed in the Issues and Decision Memorandum. For a list of the issues raised by interested parties and addressed in the Issues and Decision Memorandum, see Appendix II to this notice. The Issues and Decision Memorandum is a public document and is made available to the public via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Verification

Commerce was unable to conduct on-site verification of the information relied upon in making its final determination in this investigation. However, we took additional steps in lieu of an on-site verification to verify the information relied upon in making this final determination, in accordance with section 782(i) of the Tariff Act of 1930, as amended (the Act).³

³ See Commerce's Letters, “In Lieu of On-Site Verification Questionnaire,” dated December 9, 2021, and December 10, 2021; see also Melbras' Letter, “Melbras' In Lieu of Verification Questionnaire Response,” dated December 17, 2021; and Supermel's Letter, “Supermel's In Lieu of Verification Questionnaire Response,” dated December 20, 2021.

Changes Since the Preliminary Determination

Based on the comments received from interested parties and record information, we have relied on facts otherwise available with an adverse inference (AFA) for one of the mandatory respondents in this investigation, Supermel.⁴ For a discussion of these changes, see the Issues and Decision Memorandum.

⁴ As discussed in the Preliminary Determination, Supermel is a trade name and consists of mandatory respondent Apiário Diamante Comercial Exportadora Ltda (Apiário Export) and its affiliate Apiário Diamante Produção e Comercial de Mel Ltda (Apiário Produção) (collectively, Supermel). For the final determination, we find that Apiário Export and Apiário Produção are affiliated within the meaning of section 771(33) of the Act and should be treated as a single entity, collectively referred to as Supermel, pursuant to 19 CFR 35l.401(f). No parties commented on this treatment. Accordingly, we have continued to treat these companies as a single entity for this final determination. See Memorandum, “Less-Than-Fair-Value Investigation of Raw Honey from Brazil: Preliminary Affiliation and Single Entity Memorandum for Apiário Diamante Comercial Exportadora Ltda and Apiário Diamante Produção e Comercial de Mel Ltda,” dated November 17, 2021.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

In this investigation, Commerce has determined a rate for Supermel based entirely on section 776 of the Act. Commerce calculated an individual estimated weighted-average dumping margin for Melbras that is not zero, de minimis, or based entirely on facts otherwise available. Because the estimated weighted-average dumping margin for Melbras is the only individually-calculated dumping margin that is not zero, de minimis, or based entirely on facts otherwise available, the estimated weighted-average dumping margin calculated for Melbras is the margin assigned to all other producers and exporters, pursuant to section 735(c)(5)(A) of the Act.

Final Determination

The final estimated weighted-average dumping margins are as follows:

Exporter/producer | Estimated weighted-average dumping margin (percent)
Melbras Importadora E Exportadora Agroindustrial Ltda | 7.89
Apiário Diamante Comercial Exportadora Ltda/Apiário Diamante Produção e Comercial de Mel Ltda (Supermel) ⁵ | * 83.72
All Others | 7.89
* Margin is based on AFA.

Disclosure

Normally, Commerce discloses to the parties in a proceeding the calculations that it performed in connection with the final determination in accordance with 19 CFR 351.224(b). However, because we made no changes to our preliminary weighted-average dumping margin calculations for Melbras, there are no calculations to disclose for this final determination.

⁵ As noted above, we find that Apiário Export and Apiário Produção constitute a single entity in this proceeding.

Continuation of Suspension of Liquidation

In accordance with section 735(c)(1)(B) of the Act, Commerce will instruct U.S. Customs and Border Protection (CBP) to continue to suspend liquidation of all appropriate entries of raw honey from Brazil, as described in Appendix I of this notice, which are entered, or withdrawn from warehouse, for consumption on or after November 23, 2021, the date of publication in the Federal Register of the affirmative Preliminary Determination.

Pursuant to section 735(c)(1)(B)(ii) of the Act and 19 CFR 351.210(d), we will instruct CBP to require a cash deposit equal to the estimated weighted-average dumping margin as follows: (1) The cash deposit rate for the respondents listed above will be equal to the respondent-specific estimated weighted-average dumping margin determined in this final determination; (2) if the exporter is not a respondent identified above, but the producer is, then the cash deposit rate will be equal to the respondent-specific estimated weighted-average dumping margin established for that producer of the subject merchandise; and (3) the cash deposit rate for all other producers and exporters will be equal to the all-others estimated weighted-average dumping margin. These suspension-of-liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of raw honey from Brazil no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Order

This notice will serve as the only reminder to parties subject to an administrative protective order (APO) of their responsibility concerning the destruction of proprietary information disclosed under APO in accordance with 19 CFR 351.305(a)(3). Timely written notification of return or destruction of APO materials or conversion to judicial protective order is hereby requested. Failure to comply with the regulations and the terms of an APO is a violation which is subject to sanction.

Notification to Interested Parties

This determination and this notice are issued and published pursuant to sections 735(d) and 777(i)(1) of the Act, and 19 CFR 351.210(c).

Dated: April 7, 2022.
Lisa W. Wang,
Assistant Secretary for Enforcement and Compliance.

Appendix I—Scope of the Investigation

The merchandise covered by this investigation is raw honey. Raw honey is honey as it exists in the beehive or as obtained by extraction, settling and skimming, or coarse straining. Raw honey has not been filtered to a level that results in the removal of most or all of the pollen, e.g., a level that removes pollen to below 25 microns. The subject products include all grades, floral sources and colors of raw honey and also include organic raw honey.

Excluded from the scope is any honey that is packaged for retail sale (e.g., in bottles or other retail containers of five (5) lbs. or less).

The merchandise subject to this investigation is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of this investigation is dispositive.

Appendix II—List of Topics Discussed in the Issues and Decision Memorandum

I. Summary

II. Background

III. Changes Since the Preliminary Determination

IV. Discussion of the Issues

Comment 1: Whether to Base Supermel's Final Dumping Margin on Total Adverse Facts Available (AFA)

Comment 2: Whether Beekeeper 2 Inappropriately Submitted New Factual Information

Comment 3: Moot Arguments for Supermel

Comment 4: Date of Sale

Comment 5: Whether Commerce Should Apply AFA to Melbras' Acquisition Costs

Comment 6: Whether Commerce Should Revise Melbras' Inland Freight Expenses Using Partial AFA or Neutral Facts Available

V. Recommendation

[FR Doc. 2022-07996 Filed 4-13-22; 8:45 am]

BILLING CODE 3510-DS-P